DEPARTMENT OF THE TREASURY

Submission for OMB Review; Comment Request

March 15, 2013.

The Department of the Treasury will submit the following information collection request to the Office of Management and Budget (OMB) for review and clearance in accordance with the Paperwork Reduction Act of 1995, Public Law 104-13, on or after the date of publication of this notice.

DATES: Comments should be received on or before April 22, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Bureau of the Public Debt (BPD)

OMB Number: 1535-0120.

Type of Review: Extension without change of a currently approved collection.

Title: FHA New Account Request, Transition Request, and Transfer Request.

Abstract: The information is used to (1) Establish a book-entry account; (2) change information on a book-entry account; and (3) transfer ownership of a book-entry account on the HUD system, maintained by the Federal Reserve Bank of Philadelphia.

Affected Public: Individuals or Households.

Estimated Total Burden Hours: 50.

Dawn D. Wolfgang,
Treasury PRA Clearance Officer.

[FR Doc. 2013-06460 Filed 3-20-13; 8:45 am]

BILLING CODE 4810-39-P